GENERAL SERVICES ADMINISTRATION

41 CFR Part 102-39

[FMR Case 2009-102-3; Docket No. 2009-0002, Sequence 3]

RIN 3090-AI92

Federal Management Regulation; Replacement of Personal Property Pursuant to the Exchange/Sale Authority

AGENCY: Office of Governmentwide Policy, General Services Administration (GSA).

ACTION: Proposed rule.

SUMMARY: The General Services Administration (GSA) is proposing to amend the Federal Management Regulation (FMR) by making changes to its policy on the replacement of personal property pursuant to the exchange/sale authority.

DATES: Interested parties should submit comments in writing on or before July 27, 2009 to be considered in the formulation of a final rule.

ADDRESSES: Submit comments identified by FMR case 2009-102-3 by any of the following methods:

• Regulations.gov: http://www.regulations.gov. Submit comments via the Federal eRulemaking portal by inputting “FMR Case 2009-102-3” under the heading “Search Documents”. Select the link “Send a Comment or Submission” that corresponds with FMR Case 2009-102-3. Follow the instructions provided to complete the “Public Comment and Submission Form”. Please include your name, company name (if any), and “FMR Case 2009-102-3” on your attached document.

• Fax: 202-501-4067.

• Mail: General Services Administration, Regulatory Secretariat (VPR), 1800 F Street, NW., Room 4041, ATTN: Hada Flowers, Washington, DC 20405.

Instructions: Please submit comments only and cite FMR Case 2009-102-3 in all correspondence related to this case. All comments received will be posted without change to http://www.regulations.gov, including any personal and/or business confidential information provided.

FOR FURTHER INFORMATION CONTACT: Mr. Robert Holcombe, Office of Governmentwide Policy, Office of Travel, Transportation, and Asset Management (MT), (202) 501-3838 or e-mail at robert.holcombe@gsa.gov. For information pertaining to status or publication schedules contact the Regulatory Secretariat, 1800 F Street, NW., Room 4041, Washington, DC 20405, (202) 501-4755. Please cite FMR Case 2009-102-3.

SUPPLEMENTARY INFORMATION:

A. Background

This proposed rule would remove the exchange/sale prohibition on aircraft and airframe structural components, subject to certain conditions. These commodities have been included on the list of properties normally ineligible for exchange/sale so that the acquisition and disposal of these commodities could be managed more closely. To conduct an exchange/sale of such commodities (which is encouraged to reduce the agency costs of managing their aircraft fleets), agencies have been required to submit deviation requests for approval by GSA. Adequate tools are now available for managing these assets without going through the time-consuming and onerous deviation process. Further, removing these commodities from the “prohibited list” should not have a detrimental impact on the donation of such property. Finally, although agencies would no longer need to request deviations from GSA, a provision would be added to alert agencies that they must comply with the restrictions and limitations on the disposal of aircraft and aircraft parts contained in 41 CFR part 102-33.

This proposed rule would also remove the prohibition on using scrap in an exchange/sale transaction when the property has utility and value at the time an exchange/sale determination is made. This clarification would address situations where the dismantling or removal of property may render the property as “scrap”, but where replacement of similar property is still required.

Finally, this proposed rule would make a clerical correction to § 102-39.80 to clarify that the time limit restriction on use of exchange/sale exchange allowances is the same as the restriction for use of exchange/sale sales proceeds.

B. Executive Order 12866

This proposed rule is excepted from the definition of “regulation” or “rule” under Section 3(d)(3) of Executive Order 12866, Regulatory Planning and Review, dated September 30, 1993 and, therefore, was not subject to review under Section 6(b) of that executive order.

C. Regulatory Flexibility Act

This proposed rule is not required to be published in the Federal Register for comment. Therefore, the Regulatory Flexibility Act does not apply. However, this proposed rule is being published in order to elicit comments and to provide transparency in the promulgation of federal policies.

D. Paperwork Reduction Act

The Paperwork Reduction Act does not apply because the proposed changes to the FMR do not impose information collection requirements that require the approval of the Office of Management and Budget under 44 U.S.C. 3501, et seq.

E. Small Business Regulatory Enforcement Fairness Act

This proposed rule is exempt from Congressional review under 5 U.S.C. 801 since it relates solely to agency management and personnel.

List of Subjects in 41 CFR Part 102-39

Government property management and Personal property.

Dated: May 26, 2009.
Stan Kaczmarczyk,
Acting Associate Administrator, Office of Governmentwide Policy.

For the reasons set forth in the preamble, GSA proposes to amend 41 CFR part 102-39 as set forth below:

PART 102-39—REPLACEMENT OF PERSONAL PROPERTY PURSUANT TO THE EXCHANGE/SALE AUTHORITY

1. The authority citation for 41 CFR part 102-39 continues to read as follows:

Authority: 40 U.S.C. 121(c); 40 U.S.C. 503.

2. Amend § 102-39.60—

a. In paragraph (a) by removing the fifth entry “15 Aircraft and airframe structural components (except FSC Class 1560 Airframe Structural Components).”;

b. Revising paragraph (e); and

c. Adding paragraph (m).

The revision and addition read as follows:

§ 102-39.60 What restrictions and prohibitions apply to the exchange/sale of personal property?

* * * * *

(e) Property with a condition code of scrap, as defined at FMR 102-36.40, except:

(1) Property that has utility and value at the point in time when a determination is made to use the exchange/sale authority; or

(2) Scrap gold for fine gold.

* * * * *

(m) Aircraft and aircraft parts, unless there is full compliance with all aircraft and aircraft parts restrictions and limitations in FMR part 102-33 (41 CFR part 102-33).

§ 102-39.80 [Amended]

3. Amend § 102-39.80, second sentence, by adding “exchanged or” before “sold”.

[FR Doc. E9-15157 Filed 6-25-09; 8:45 am]

BILLING CODE 6820-14-P